DEPARTMENT OF VETERANS AFFAIRS

[OMB Control No. 2900-0779]

Agency Information Collection Activity: Hematologic and Lymphatic Conditions, Including Leukemia Disability Benefits Questionnaire, Amyotrophic Lateral Sclerosis (Lou Gehrig's Disease) Disability Benefits Questionnaire, Peripheral Nerve Conditions (Not Including Diabetic Sensory-Motor Peripheral Neuropathy) Disability Benefits Questionnaire, Persian Gulf and Afghanistan Infectious Diseases Disability Benefits Questionnaire, Tuberculosis Disability Benefits Questionnaire, Kidney Conditions (Nephrology) Disability Benefits Questionnaire, Male Reproductive Organ Conditions Disability Benefits Questionnaire, Prostate Cancer Disability Benefits Questionnaire, Eating Disorders Disability Benefits Questionnaire, Mental Disorders (Other Than PTSD and Eating Disorders) Disability Benefits Questionnaire, Review Post Traumatic Stress Disorder (PTSD) Disability Benefits Questionnaire

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

VA Form 21-0960 series is used to gather necessary information from a claimant's treating physician regarding the results of medical examinations. VA gathers medical information related to the claimant that is necessary to adjudicate the claim for VA disability benefits. The Disability Benefit Questionnaire title will include the name of the specific disability for which it will gather information. VAF 21-0960B-2, Hematologic and Lymphatic Conditions, Including Leukemia Disability Benefits Questionnaire, will gather information related to the claimant's diagnosis of any hematologic or lymphatic condition; VAF 21-0960C-2, Amyotrophic Lateral Sclerosis (Lou Gehrig's Disease) Disability Benefits Questionnaire, will gather information related to the claimant's diagnosis of amyotrophic lateral sclerosis; VAF 21-0960C-10, Peripheral Nerve Conditions (Not Including Diabetic Sensory-Motor Peripheral neuropathy) Disability Benefits Questionnaire, will gather information related to the claimant's diagnosis of a peripheral nerve disorder; VAF 21-0960I-1, Persian Gulf and Afghanistan Infectious Diseases Disability Benefits Questionnaire, will gather information related to the claimant's diagnosis of an infectious disease due to service in the Persian Gulf or Afghanistan; VAF 210960-I-6, Tuberculosis Disability Benefits Questionnaire, will gather information related to the claimant's diagnosis of tuberculosis; VAF 21-0960J-1, Kidney Conditions (Nephrology) Disability Benefits Questionnaire, will gather information related to the claimant's diagnosis of kidney disease; VAF 21-0960J-2, Male Reproductive Organ Conditions Disability Benefits Questionnaire, will gather information related to the claimant's diagnosis of a condition affecting the male reproductive organ; VAF 21-0960J-3, Prostate Cancer Disability Benefits Questionnaire, will gather information related to the claimant's diagnosis of prostate cancer; VAF 21-0960P-1, Eating Disorders Disability Benefits Questionnaire, will gather information related to the claimant's diagnosis of an eating disorder; VAF 21-0960P-2, Mental Disorders (other than PTSD and Eating Disorders) Disability Benefits Questionnaire will gather information related to the claimant's diagnosis of any mental disorder with the exception of PTSD; VAF 21-0960P-3, Review Post Traumatic Stress Disorder (PTSD) Disability Benefits Questionnaire, will gather information related to the claimant's diagnosis of PTSD.

DATES: Written comments and recommendations on the proposed collection of information should be received on or before June 19, 2017.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0779” in any correspondence. During the comment period, comments may be viewed online through the FDMS.

FOR FURTHER INFORMATION CONTACT: Nancy J. Kessinger at (202) 632-8924 or FAX (202) 632-8925.

SUPPLEMENTARY INFORMATION:

Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-21.

Title: (Hematologic and Lymphatic Conditions, Including Leukemia Disability Benefits Questionnaire (VA Form 21-0960B-2), Amyotrophic Lateral Sclerosis (Lou Gehrig's Disease) Disability Benefits Questionnaire (VA Form 21-0960C-2), Peripheral Nerve Conditions (Not Including Diabetic Sensory-Motor Peripheral Neuropathy) Disability Benefits Questionnaire (VA Form 21-0960C-10), Persian Gulf and Afghanistan Infectious Diseases Disability Benefits Questionnaire (VA Form 21-0960I-1), Tuberculosis Disability Benefits Questionnaire (VA Form 21-0960I-6), Kidney Conditions (Nephrology) Disability Benefits Questionnaire (VA Form 21-0960J-1), Male Reproductive Organ Conditions Disability Benefits Questionnaire (VA Form 21-0960J-2), Prostate Cancer Disability Benefits Questionnaire (VA Form 21-0960J-3), Eating Disorders Disability Benefits Questionnaire (VA Form 21-0960P-1), Mental Disorders (other than PTSD and Eating Disorders) Disability Benefits Questionnaire (VA Form 21-0960P-2), Review Post Traumatic Stress Disorder (PTSD) Disability Benefits Questionnaire (VA Form 21-0960P-3))

OMB Control Number: 2900-0779.

Type of Review: Extension of an approved collection.

Abstract: VA Form 21-0960 series is used to gather necessary information from a claimant's treating physician regarding the results of medical examinations. VA gathers medical information related to the claimant that is necessary to adjudicate the claim for VA disability benefits. The Disability Benefit Questionnaire title will include the name of the specific disability for which it will gather information. VAF 21-0960B-2, Hematologic and Lymphatic Conditions, Including Leukemia Disability Benefits Questionnaire, will gather information related to the claimant's diagnosis of any hematologic or lymphatic condition; VAF 21-0960C-2, Amyotrophic Lateral Sclerosis (Lou Gehrig's Disease) Disability Benefits Questionnaire, will gather information related to the claimant's diagnosis of amyotrophic lateral sclerosis; VAF 21-0960C-10, Peripheral Nerve Conditions (Not Including Diabetic Sensory-Motor Peripheral neuropathy) Disability Benefits Questionnaire, will gather information related to the claimant's diagnosis of a peripheral nerve disorder; VAF 21-0960I-1, Persian Gulf and Afghanistan Infectious Diseases Disability Benefits Questionnaire, will gather information related to the claimant's diagnosis of an infectious disease due to service in the Persian Gulf or Afghanistan; VAF 210960-I-6, Tuberculosis Disability Benefits Questionnaire, will gather information related to the claimant's diagnosis of tuberculosis; VAF 21-0960J-1, Kidney Conditions (Nephrology) Disability Benefits Questionnaire, will gather information related to the claimant's diagnosis of kidney disease; VAF 21-0960J-2, Male Reproductive Organ Conditions Disability Benefits Questionnaire, will gather information related to the claimant's diagnosis of a condition affecting the male reproductive organ; VAF 21-0960J-3, Prostate Cancer Disability Benefits Questionnaire, will gather information related to the claimant's diagnosis of prostate cancer; VAF 21-0960P-1, Eating Disorders Disability Benefits Questionnaire, will gather information related to the claimant's diagnosis of an eating disorder; VAF 21-0960P-2, Mental Disorders (other than PTSD and Eating Disorders) Disability Benefits Questionnaire will gather information related to the claimant's diagnosis of any mental disorder with the exception of PTSD; VAF 21-0960P-3, Review Post Traumatic Stress Disorder (PTSD) Disability Benefits Questionnaire, will gather information related to the claimant's diagnosis of PTSD.

Affected Public: Individuals or households.

Estimated Annual Burden: 127,917.

Estimated Average Burden per Respondent: 25 minutes.

Frequency of Response: One time.

Estimated Number of Respondents: 307,000.

By direction of the Secretary.
Cynthia Harvey-Pryor,
Department Clearance Officer, Enterprise Records Service, Office of Quality and Compliance, Department of Veterans Affairs.

[FR Doc. 2017-07863 Filed 4-18-17; 8:45 am]

BILLING CODE 8320-01-P